DEPARTMENT OF HOMELAND SECURITY

Federal Emergency Management Agency

[Docket ID FEMA-2015-0001]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of June 16, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 2, 2016.
Roy E. Wright,
Deputy Associate Administrator for Insurance and Mitigation, Department of Homeland Security, Federal Emergency Management Agency.

I. Non-watershed-based studies:

Community | Community map repository address
Mohave County, Arizona, and Incorporated Areas
Docket No.: FEMA-B-1502
Unincorporated Areas of Mohave County | County Administration Building, 700 West Beale Street, Kingman, AZ 86401.
Cumberland County, New Jersey (All Jurisdictions)
Docket No.: FEMA-B-1471
Borough of Shiloh | Clerk's Office, 900 Main Street, Shiloh, NJ 08353.
City of Bridgeton | Construction Code Office, 181 East Commerce Street, Bridgeton, NJ 08302.
City of Millville | Clerk's Office, 12 South High Street, Millville, NJ 08332.
City of Vineland | Planning Department, 640 East Wood Street, Vineland, NJ 08360.
Township of Commercial | Commercial Township Code Enforcement Office, 1768 Main Street, Port Norris, NJ 08349.
Township of Deerfield | Deerfield Township Hall, 736 Landis Avenue, Rosenhayn, NJ 08352.
Township of Downe | Downe Township Hall, 288 Main Street, Newport, NJ 08345.
Township of Fairfield | Fairfield Township Construction Office, 70 Fairton Gouldtown Road, Fairton, NJ 08320.
Township of Greenwich | Emergency Management Building, 1000 Ye Greate Street, Greenwich, NJ 08323.
Township of Hopewell | Hopewell Township Municipal Building, 590 Shiloh Pike, Bridgeton, NJ 08302.
Township of Lawrence | Lawrence Township Construction Code Office, 357 Main Street, Cedarville, NJ 08311.
Township of Maurice River | Maurice River Township Construction and Zoning Office, 590 Main Street, Leesburg, NJ 08327.
Township of Stow Creek | Stow Creek Township Clerk's Office, 900 Main Street, Shiloh, NJ 08353.
Township of Upper Deerfield | Upper Deerfield Township Municipal Building, 1325 Highway 77, Seabrook, NJ 08302.
Salem County, New Jersey (All Jurisdictions)
Docket No.: FEMA-B-1471
Borough of Elmer | Borough Hall, 120 South Main Street, Elmer, NJ 08318.
Borough of Penns Grove | Borough Hall, 1 State Street, Penns Grove, NJ 08069.
Borough of Woodstown | 25 West Avenue, Woodstown, NJ 08098.
City of Salem | 17 New Market Street, Salem, NJ 08079.
Township of Alloway | 49 South Greenwich Street, Alloway, NJ 08001.
Township of Carneys Point | 303 Harding Highway, Carneys Point, NJ 08069.
Township of Elsinboro | Elsinboro Township Municipal Building, 619 Salem Fort-Elfsborg Road, Salem, NJ 08079.
Township of Lower Alloways Creek | Township of Lower Alloways Creek, 501 Locust Island Road Hancock's Bridge, NJ 08038.
Township of Mannington | Town Hall, 491 Route 45, Mannington, NJ 08079.
Township of Oldmans | Township of Oldmans, Pedricktown Hall, 40 Freed Road, Pedricktown, NJ 08067.
Township of Pennsville | Town Hall, 90 North Broadway, Pennsville, NJ 08070.
Township of Pilesgrove | Municipal Building, 1180 Route 40, East, Pilesgrove, NJ 08098.
Township of Pittsgrove | Municipal Building, 989 Centerton Road, Pittsgrove, NJ 08318.
Township of Quinton | Municipal Building, 885 Quinton Road, Quinton, NJ 08072.
Township of Upper Pittsgrove | Township of Upper Pittsgrove, 431 Route 77, Woodstown, NJ 08318.
Delaware County, New York (All Jurisdictions)
Docket No.: FEMA-B-1419
Town of Andes | Town Hall, 115 Delaware Avenue, Andes, NY 13731.
Town of Bovina | Bovina Town Clerk's Office, 1866 County Highway 6, Bovina Center, NY 13740.
Town of Colchester | Colchester Town Hall, 72 Tannery Road, Downsville, NY 13755.
Town of Delhi | Town Clerk's Office, 5 Elm Street, Delhi, NY 13753.
Town of Franklin | Town Hall, 554 Main Street, Franklin, NY 13775.
Town of Hamden | Town Hall, Corner of Route 10 and Covert Hollow Road, Hamden, NY 13782.
Town of Harpersfield | Town Hall, 25399 State Highway 23, Harpersfield, NY 13786.
Town of Kortright | Kortright Town Hall, 51702 State Highway 10, Bloomville, NY 13739.
Town of Meredith | Town Hall, 4247 Turnpike Road, Meredith, NY 13806.
Town of Middletown | Middletown Building and Zoning Office, 42339 State Highway 28, Margaretville, NY 12455.
Town of Roxbury | Town Hall, 53690 State Highway 30, Roxbury, NY 12474.
Town of Stamford | Stamford Town Hall, 101 Maple Avenue, Hobart, NY 13788.
Town of Tompkins | Tompkins Town Hall, 148 Bridge Street, Trout Creek, NY 13847.
Town of Walton | Town Hall, 129 North Street, Walton, NY 13856.
Village of Delhi | Village Hall, 9 Court Street, Delhi, NY 13753.
Village of Fleischmanns | Village Hall, 1017 Main Street, Fleischmanns, NY 12430.
Village of Hobart | Community Center, 80 Cornell Avenue, Hobart, NY 13788.
Village of Margaretville | Village Hall, 773 Main Street, Margaretville, NY 12455.
Village of Stamford | Village Hall, 84 Main Street, Stamford, NY 12167.
Village of Walton | Village Hall, 21 North Street, Walton, NY 13856.

[FR Doc. 2016-04891 Filed 3-4-16; 8:45 am]

BILLING CODE 9110-12-P